DEPARTMENT OF THE INTERIOR

Fish and Wildlife Service

Endangered and Threatened Wildlife and Plants; Initiation of 5-Year Reviews of Two Plant Species and Two Wildlife Species in the Midwest Region

AGENCY: Fish and Wildlife Service, Interior.

ACTION: Notice of review; request for information.

SUMMARY: We, the U.S. Fish and Wildlife Service (Service), initiate 5-year reviews of Houghton goldenrod (Solidago houghtonii), dwarf lake iris (Iris lacustris), scaleshell mussel (Leptodea leptodon), and Niangua darter (Etheostoma nianguae) under the Endangered Species Act of 1973, as amended (Act). We request any new information on these species that may have a bearing on their classification as endangered or threatened. Based on the results of these reviews, we will make a finding on whether these species are properly classified under the Act.

DATES: To allow us adequate time to conduct these reviews, we must receive your information no later than December 3, 2007. However, we will continue to accept new information about any listed species at any time.

ADDRESSES: For instructions on how to submit information and review the information that we receive on these species, see “Public Solicitation of New Information.”

FOR FURTHER INFORMATION CONTACT: For species-specific information, contact the appropriate person under “Public Solicitation of New Information.”

Individuals who are hearing impaired or speech impaired may call the Federal Relay Service at (800) 877-8337 for TTY assistance.

SUPPLEMENTARY INFORMATION:

Why Do We Conduct a 5-Year Review?

Under the Act we maintain the List of Endangered and Threatened Wildlife and Plant Species (List) at 50 CFR 17.11 and 17.12. We amend the List by publishing final rules in the Federal Register. Section 4(c)(2)(A) of the Act requires that we conduct a review of listed species at least once every 5 years. Section 4(c)(2)(B) requires that we determine (1) whether a species no longer meets the definition of threatened or endangered and should be removed from the List (delisted); (2) whether a species more properly meets the definition of threatened and should be reclassified from endangered to threatened; or (3) whether a species more properly meets the definition of endangered and should be reclassified from threatened to endangered. Using the best scientific and commercial data available, we will consider a species for delisting if the data substantiate that the species is neither endangered nor threatened for one or more of the following reasons: (1) The species is considered extinct; (2) the species is considered to be recovered; and/or (3) the original data available when we listed the species, or interpretation of such data, were in error. Any change in Federal classification requires a separate rulemaking process. Therefore, we are requesting submission of any new information (best scientific and commercial data) on these species since they were originally listed.

Our regulations at 50 CFR 424.21 require that we publish a notice in the Federal Register announcing those species currently under active review. This notice announces our active review of the species in Table 1.

Table 1.—Listing Information Summary for Four Species in the Midwest Region
Common name | Scientific name | Status | Listed entity | Final listing rule
Dwarf lake iris | Iris lacustris | Threatened | U.S.A. (MI, WI), Canada (Ont.) | Sept. 28, 1988 (53 FR 37972).
Houghton's goldenrod | Solidago houghtonii | Threatened | U.S.A. (MI), Canada (Ont.) | July 18, 1988 (53 FR 27134).
Niangua darter | Etheostoma nianguae | Threatened | U.S.A. (MO) | June 12, 1985 (50 FR 24649).
Scaleshell mussel | Leptodea leptodon | Endangered | U.S.A. (AL, AR, IA, IL, IN, KY, MN, MO, OH, OK, SD, TN, WI) | Oct. 9, 2001 (66 FR 51322).

What Information Do We Consider in Our Review?

In our 5-year review, we consider all new information available at the time of the review. These reviews will consider the best scientific and commercial data that have become available since the original listing determination or most recent status review of each species, such as—(A) Species biology, including but not limited to population trends, distribution, abundance, demographics, and genetics; (B) Habitat conditions, including but not limited to amount, distribution, and suitability; (C) Conservation measures that have been implemented to benefit the species; (D) Threat status and trends (see five factors under heading “How do we determine whether a species is endangered or threatened?”); and (E) Other new information, data, or corrections, including but not limited to taxonomic or nomenclatural changes, identification of erroneous information contained in the List of Endangered and Threatened Wildlife and Plants, and improved analytical methods.

Public Solicitation of New Information

We request any new information concerning the status of the plant species Houghton's goldenrod and dwarf lake iris, and of the wildlife species Niangua darter and scaleshell mussel. See “What Information Do We Consider in Our Review?” for specific criteria. If you submit information, support it with documentation such as maps, bibliographic references, methods used to gather and analyze the data, and/or copies of any pertinent publications, reports, or letters by knowledgeable sources. We specifically request information regarding data from any systematic surveys, as well as any studies or analysis of data that may show population size or trends; information pertaining to the biology or ecology of the species; information regarding the effects of current land management on population distribution and abundance; information on the current condition of habitat; and recent information regarding conservation measures that have been implemented to benefit the species. Additionally, we specifically request information on the current distribution of populations and evaluation of threats faced by the species in relation to the five listing factors (as defined in section 4(a)(1) of the Act) and the species' listed status as judged against the definition of threatened or endangered. Finally, we solicit recommendations pertaining to the development of, or potential updates to, recovery plans and additional actions or studies that would benefit these species in the future.

Our practice is to make information, including names and home addresses of respondents, available for public review. Before including your address, telephone number, e-mail address, or other personal identifying information in your response, you should be aware that your entire submission—including your personal identifying information—may be made publicly available at any time. While you can ask us in your response to withhold your personal identifying information from public review, we cannot guarantee that we will be able to do so.

Mail or hand-deliver information on the following species to the U.S. Fish and Wildlife Service Field Supervisor, at the corresponding addresses below. You may also view information we receive in response to this notice, as well as other documentation in our files, at the following locations by appointment, during regular business hours.

Houghton's goldenrod: 2651 Coolidge Road, Suite 101, East Lansing, MI 48823-6316, Attention: Houghton's goldenrod 5-Year Review. For species-specific information, contact Ms. Tameka Dandridge at 517-351-8315.

Dwarf lake iris: 2651 Coolidge Road, Suite 101, East Lansing, MI 48823-6316, Attention: Dwarf lake iris 5-Year Review. For species-specific information, contact Ms. Barbara Hosler at 517-351-6326.

Niangua darter: 101 Park DeVille Drive, Suite A, Columbia, MO 65203-0007, Attention: Niangua darter 5-Year Review. For species-specific information, contact Mr. Rick Hansen at 573-234-2132, extension 106.

Scaleshell mussel: 101 Park DeVille Drive, Suite A, Columbia, MO 65203-0007, Attention: Scaleshell mussel 5-Year Review. For species-specific information, contact Mr. Andy Roberts at 573-234-2132, extension 110.

Electronic information must be submitted in Text format or Rich Text format to FW3_FY07MidwestRegion5YearReview@fws.gov. Please send information for each species in a separate e-mail. Include the following identifier in the subject line of the e-mail: Information on the 5-year review for (add name of species—for example, “ * * * for scaleshell mussel”), and include your name and return address in the body of your message.

How Are These Species Currently Listed?

Table 1 provides current listing information for the species under active review in this notice. Also, the List, which covers all listed species, is available on our Internet site at http://endangered.fws.gov/wildlife.html#Species.

Definitions

To help you submit information about the species we are reviewing, we provide the following definitions:

Species includes any species or subspecies of fish, wildlife, or plant, and any distinct population segment of any species of vertebrate, which interbreeds when mature;

Endangered species means any species that is in danger of extinction throughout all or a significant portion of its range; and

Threatened species means any species that is likely to become an endangered species within the foreseeable future throughout all or a significant portion of its range.

How Do We Determine Whether a Species Is Endangered or Threatened?

Section 4(a)(1) of the Act establishes that we determine whether a species is endangered or threatened based on one or more of the five following factors: (A) The present or threatened destruction, modification, or curtailment of its habitat or range;

(B) Overutilization for commercial, recreational, scientific, or educational purposes; (C) Disease or predation; (D) The inadequacy of existing regulatory mechanisms; or (E) Other natural or manmade factors affecting its continued existence. Section 4(a)(1) of the Act requires that our determination be made on the basis of the best scientific and commercial data available.

What Could Happen as a Result of Our Review?

For each species under review, if we find new information that indicates a change in classification may be warranted, we may propose a new rule that could do one of the following: (a) Reclassify the species from threatened to endangered (uplist); (b) reclassify the species from endangered to threatened (downlist); or (c) remove the species from the List (delist).

If we determine that a change in classification is not warranted, then the species will remain on the List under its current status.

Authority

We publish this document under the authority of the Endangered Species Act of 1973, as amended (16 U.S.C. 1531 et seq.).

Dated: September 4, 2007.
Wendi Weber,
Assistant Regional Director, Ecological Services, Region 3.

[FR Doc. E7-19603 Filed 10-3-07; 8:45 am]

BILLING CODE 4310-55-P